FEDERAL PERMITTING IMPROVEMENT STEERING COUNCIL

40 CFR Part 1900

Unified Agenda of Federal Regulatory and Deregulatory Actions

AGENCY: Federal Permitting Improvement Steering Council.

ACTION: Semiannual regulatory agenda.

SUMMARY: This agenda contains the proposed regulatory actions that the Federal Permitting Improvement Steering Council (Permitting Council or FPISC) plans to undertake in the 12 months following the Permitting Council's spring 2020 edition of its semiannual regulatory agenda, which included the Permitting Council's previous regulatory agenda. The Permitting Council developed this agenda consistent with Executive Order 12866 “Regulatory Planning and Review,” Executive Order 13771 “Reducing Regulation and Controlling Regulatory Costs,” and Executive Order 13563 “Improving Regulation and Regulatory Review.”

FOR FURTHER INFORMATION CONTACT: John Cossa, General Counsel, Federal Permitting Improvement Steering Council, Office of the Executive Director, 1800 G Street NW, Suite 2400, Washington, DC 20405, (202) 255-6936, john.cossa@fpisc.gov.

SUPPLEMENTARY INFORMATION: Title 41 of the Fixing America's Surface Transportation Act (FAST-41), 42 U.S.C. 4370m et seq., created the Permitting Council, which is comprised of an Office of the Executive Director, 13 Federal Agency Council members, and additional Council members Council on Environmental Quality and Office of Management and Budget. 42 U.S.C. 4370m-1(a) & (b). The Permitting Council is charged with improving the timeliness, predictability, and transparency of the federal environmental review and authorization process for certain critical and high economic value infrastructure projects across a broad range of industry sectors, including renewable and conventional energy production, electricity transmission, surface transportation, aviation, ports and waterways, water resource projects, broadband, pipelines, and manufacturing. Certain actions of the Permitting Council are rules of general applicability that affect the rights of the public and the regulated community and warrant informal rulemaking pursuant to the Administrative Procedure Act, 5 U.S.C. 553.

The Permitting Council's complete Unified Agenda will be available online at www.reginfo.gov and www.regulations.gov in a format that offers users an enhanced ability to obtain information from the Unified Agenda database. Publication in the Federal Register is mandated for the regulatory flexibility agendas required by the Regulatory Flexibility Act (RFA), 5 U.S.C. 602. Accordingly, the Permitting Council's printed agenda entries will include only:

(1) Rules that are included in the regulatory flexibility agenda pursuant to the RFA because they are likely to have a significant economic impact on a substantial number of small entities; and

(2) Rules that have been identified for periodic review under the RFA, 5 U.S.C. 610.

Printing of the semiannual regulatory agenda entries is limited to fields that contain information required by the RFA's Unified Agenda requirements.

Dated: March 3, 2021.
Amber Levofsky,
Senior Advisor and Executive Operations Manager.

Federal Permitting Improvement Steering Council—Proposed Rule Stage
Sequence No. | Title | Regulation Identifier No.
506 | FPISC Case 2020-001, Adding Mining as a Sector of Projects Eligible for Coverage Under Title 41 of the Fixing America's Surface Transportation Act (FAST-41) | 3121-AA01
507 | Adding Land Revitalization as a Sector of Projects Eligible for Coverage Under Title 41 of the Fixing America's Surface Transportation Act (FAST-41) | 3121-AA02

Federal Permitting Improvement Steering Council—Final Rule Stage
Sequence No. | Title | Regulation Identifier No.
508 | FPISC Case 2018-001; Fees for Governance, Oversight, and Processing of Environmental Reviews and Authorizations | 3121-AA00

FEDERAL PERMITTING IMPROVEMENT STEERING COUNCIL (FPISC)

Proposed Rule Stage

506. FPISC Case 2020-001, Adding Mining as a Sector of Projects Eligible for Coverage Under Title 41 of the Fixing America's Surface Transportation Act (FAST-41)

E.O. 13771 Designation: Regulatory.

Legal Authority: 42 U.S.C. 4370m(6)(A)

Abstract: Title 41 of the Fixing America's Surface Transportation Act (FAST-41), 42 U.S.C. 4370m et seq., established the Federal Permitting Improvement Council (Permitting Council), which is comprised of an Office of the Executive Director, 13 Federal Agency Council members, and additional Council members Council on Environmental Quality and Office of Management and Budget. The Permitting Council is charged with improving the timeliness, predictability, and transparency of the federal environmental review and authorization process for “covered” infrastructure projects across a statutorily-identified range of industry sectors, including renewable and conventional energy production, electricity transmission, surface transportation, aviation, ports and waterways, water resource projects, broadband, pipelines, and manufacturing. FAST-41 authorizes the Permitting Council, by majority vote of the Council members, to add classes of projects to those eligible for FAST-41 coverage. 42 U.S.C. 4370m(6)(A). Pursuant to that authority, and consistent with Executive Orders 13807 and 13817, the Permitting Council is proposing to include mining as a sector of projects eligible for coverage under FAST-41. Inclusion of mining on the covered sector list does not guarantee that any particular mining project will be covered under FAST-41 or receive the benefits of enhanced coordination under the statute. A project sponsor seeking the benefits of FAST-41 must apply to the Permitting Council for project coverage.

Timetable:

Action | Date | FR Cite
NPRM | 12/00/20 |
NPRM Comment Period End | 01/00/21 |
Final Rule | 03/00/21 |

Regulatory Flexibility Analysis Required: Yes.

Agency Contact: John Cossa, General Counsel, Office of the Executive Director, Federal Permitting Improvement Steering Council, 1800 F Street NW, Washington, DC 20006, Phone: 202 607-3498, Email: john.cossa@fpisc.gov.

RIN: 3121-AA01

507. Adding Land Revitalization as a Sector of Projects Eligible for Coverage Under Title 41 of the Fixing America's Surface Transportation Act (FAST-41)

E.O. 13771 Designation: Regulatory.

Legal Authority: 42 U.S.C. 4370m(6)(A)

Abstract: Title 41 of the Fixing America's Surface Transportation Act (FAST-41), 42 U.S.C. 4370m et seq., established the Federal Permitting Improvement Council (Permitting Council), which is comprised of an Office of the Executive Director, 13 Federal Agency Council members and additional Council members Council on Environmental Quality and the Office of Management and Budget. The Permitting Council is charged with improving the timeliness, predictability, and transparency of the Federal environmental review and authorization process for covered infrastructure projects across a statutorily-identified range of industry sectors, including renewable and conventional energy production, electricity transmission, surface transportation, aviation, ports and waterways, water resource projects, broadband, pipelines, and manufacturing. FAST-41 authorizes the Permitting Council, by majority vote of the Council members, to add classes of projects to those eligible for FAST-41 coverage. 42 U.S.C. 4370m(6)(A). Pursuant to that authority, and consistent with Executive Orders 13807 and 13817, the Permitting Council is proposing to include land revitalization as a sector of projects eligible for coverage under FAST-41. Inclusion of land revitalization on the covered sector list does not guarantee that any particular land revitalization project will be covered under FAST-41 or receive the benefits of enhanced coordination under the statute. A project sponsor seeking the benefits of FAST-41 must apply to the Permitting Council for project coverage.

Timetable:

Action | Date | FR Cite
NPRM | 03/00/21 |
NPRM Comment Period End | 04/00/21 |
Final Rule | 06/00/21 |

Regulatory Flexibility Analysis Required: Yes.

Agency Contact: Nicholas A. Falvo, Attorney—Advisor, Federal Permitting Improvement Steering Council, 1800 G Street NW, Suite 2400, Washington, DC 20006, Phone: 202 430-4463, Email: nicholas.falvo@fpisc.gov.

RIN: 3121-AA02

FEDERAL PERMITTING IMPROVEMENT STEERING COUNCIL (FPISC)

Final Rule Stage

508. FPISC Case 2018-001; Fees for Governance, Oversight, and Processing of Environmental Reviews and Authorizations

E.O. 13771 Designation: Fully or Partially Exempt.

Legal Authority: 42 U.S.C. 4370m-8

Abstract: The Permitting Council is considering finalizing the regulation proposed on September 4, 2018, 83 FR 44846, that would establish a fee structure to reimburse the Permitting Council for reasonable costs incurred in coordinating environmental reviews and authorizations pursuant to title 41 of the Fixing America's Surface Transportation Act (FAST-41), 42 U.S.C. 4370m et seq.

Timetable:

Action | Date | FR Cite
NPRM | 09/04/18 | 83 FR 44846
NPRM Comment Period End | 11/05/18 |
Final Rule | 03/00/21 |

Regulatory Flexibility Analysis Required: Yes.

Agency Contact: Amber Levofsky, Senior Advisor and Executive Operations Manager, Federal Permitting Improvement Steering Council, 1800 G Street NW, Suite 2400, Washington, DC 20006, Phone: 202 412-2064, Email: amber.levofsky@fpisc.gov.

RIN: 3121-AA00

[FR Doc. 2021-04811 Filed 3-30-21; 8:45 am]

BILLING CODE 6820-PL-P